FEDERAL COMMUNICATIONS COMMISSION

[OMB 3060-1058; FR ID 183996]

Information Collection Being Submitted for Review and Approval to Office of Management and Budget

AGENCY: Federal Communications Commission.

ACTION: Notice and request for comments.

SUMMARY: As part of its continuing effort to reduce paperwork burdens, as required by the Paperwork Reduction Act (PRA) of 1995, the Federal Communications Commission (FCC or the Commission) invites the general public and other Federal Agencies to take this opportunity to comment on the following information collection. Pursuant to the Small Business Paperwork Relief Act of 2002, the FCC seeks specific comment on how it might “further reduce the information collection burden for small business concerns with fewer than 25 employees.”

DATES: Written comments and recommendations for the proposed information collection should be submitted on or before December 11, 2023.

ADDRESSES: Comments should be sent to www.reginfo.gov/public/do/PRAMain. Find this particular information collection by selecting “Currently under 30-day Review—Open for Public Comments” or by using the search function. Your comment must be submitted into www.reginfo.gov per the above instructions for it to be considered. In addition to submitting in www.reginfo.gov also send a copy of your comment on the proposed information collection to Cathy Williams, FCC, via email to PRA@fcc.gov and to Cathy.Williams@fcc.gov. Include in the comments the OMB control number as shown in the SUPPLEMENTARY INFORMATION below.

FOR FURTHER INFORMATION CONTACT: For additional information or copies of the information collection, contact Cathy Williams at (202) 418-2918. To view a copy of this information collection request (ICR) submitted to OMB: (1) go to the web page http://www.reginfo.gov/public/do/PRAMain, (2) look for the section of the web page called “Currently Under Review,” (3) click on the downward-pointing arrow in the “Select Agency” box below the “Currently Under Review” heading, (4) select “Federal Communications Commission” from the list of agencies presented in the “Select Agency” box, (5) click the “Submit” button to the right of the “Select Agency” box, (6) when the list of FCC ICRs currently under review appears, look for the Title of this ICR and then click on the ICR Reference Number. A copy of the FCC submission to OMB will be displayed.

SUPPLEMENTARY INFORMATION: The Commission may not conduct or sponsor a collection of information unless it displays a currently valid Office of Management and Budget (OMB) control number. No person shall be subject to any penalty for failing to comply with a collection of information subject to the PRA that does not display a valid OMB control number.

As part of its continuing effort to reduce paperwork burdens, as required by the Paperwork Reduction Act (PRA) of 1995 (44 U.S.C. 3501-3520), the FCC invited the general public and other Federal Agencies to take this opportunity to comment on the following information collection. Comments are requested concerning: (a) Whether the proposed collection of information is necessary for the proper performance of the functions of the Commission, including whether the information shall have practical utility; (b) the accuracy of the Commission's burden estimates; (c) ways to enhance the quality, utility, and clarity of the information collected; and (d) ways to minimize the burden of the collection of information on the respondents, including the use of automated collection techniques or other forms of information technology. Pursuant to the Small Business Paperwork Relief Act of 2002, Public Law 107-198, see 44 U.S.C. 3506(c)(4), the FCC seeks specific comment on how it might “further reduce the information collection burden for small business concerns with fewer than 25 employees.”

OMB Control Number: 3060-1058.

Title: FCC Application or Notification for Spectrum Leasing Arrangement or Private Commons Arrangement; Wireless Telecommunications Bureau; Public Safety and Homeland Security Bureau.

Form Number: FCC Form 608.

Type of Review: Revision of a currently approved collection.

Respondents: Individual and households, Business or other for-profit entities, state, local, or tribal government, and not for profit institutions.

Number of Respondents and Responses: 1,116 respondents and 1,116 responses.

Estimated Time per Response: 0.05 to 1 hour.

Frequency of Response: Recordkeeping requirement; third party disclosure requirement, on occasion reporting requirement and periodic reporting requirement.

Obligation to Respond: Required to obtain or retain benefits. Statutory authority for this collection of information is contained in 47 U.S.C. 154, 155, 158, 161, 301, 303(r), 308, 309, 310 and 332.

Total Annual Burden: 1,135.

Total Annual Cost: $1,443,825.

Needs and Uses: FCC Form 608 is a multi-purpose form. It is used to provide notification or request approval for any spectrum leasing arrangement (“Lease”) entered into between an existing licensee in certain Wireless and/or Public Safety Radio Services and a spectrum lessee. This form also is required to notify or request approval for any spectrum subleasing arrangement (“Sublease”). The data collected on the form is used by the FCC to determine whether the public interest would be served by the Lease or Sublease. The form is also used to provide notification for any Private Commons Arrangement entered into between a licensee, lessee, or sublessee and a class of third-party users (as defined in Section 1.9080 of the Commission's Rules).

On July 18, 2022, the Commission released a Report and Order and Second Further Notice of Proposed Rulemaking, Partitioning, Disaggregation, and Leasing of Spectrum, WT Docket No. 19-38, FCC 22-53, in which the Commission established the Enhanced Competition Incentive Program (ECIP) to establish incentives for wireless radio service licensees to make underutilized spectrum available to small carriers, Tribal Nations, and entities serving rural areas (ECIP Report and Order in WT Docket No. 19-38, FCC 22-53). In the Report and Order, the Commission adopted a program under which any covered geographic area licensee may offer spectrum to an unaffiliated eligible entity through a partition and/or disaggregation, and any covered geographic area licensee eligible to lease in an included service may offer spectrum to an unaffiliated eligible entity through a long-term leasing arrangement. If the FCC finds that approval of an ECIP eligible assignment or lease is in the public interest, the agency will consent to the transaction and confer benefits, including five-year license term extensions, one year construction extensions, and substituted alternative construction requirements for rural-focused transactions. The Commission also established rules to permit reaggregation of geographic licenses.

In establishing the ECIP, the Commission requires applicants seeking to participate in the program to submit certain information that shows the transaction qualifies for ECIP inclusion. The Commission found that the ECIP builds on Congressional goals in the MOBILE NOW Act to incentivize beneficial transactions in the public interest that will promote greater competition in the provision of wireless services, facilitate increased availability of advanced wireless services in rural areas, facilitate new opportunities for small carriers and Tribal Nations to increase access to spectrum, and bring more advanced wireless service including 5G to underserved communities. Specifically, in the ECIP Report and Order, the Commission revised its rules to allow any covered geographic licenses in included services to be leased to eligible entities through a long-term leasing arrangement.

Specifically, in the ECIP Report and Order, the Commission revised its rules to allow any covered geographic licenses in included services to be leased to eligible entities through a long-term leasing arrangement, to designate a Qualifying Transaction identified in the application as seeking consideration under the ECIP. Two new questions are being added to the FCC Form 608 as a result. Respondents are required to indicate by yes or no answer whether the application is seeking consideration under ECIP. Respondents are also required to select the applicable ECIP prong to its Qualifying Transaction, pursuant to either § 1.60003 or § 1.60004.

Finally, a new Schedule J is being added to FCC Form 608 and will be used by Spectrum Manager Lessors (i.e., the Licensee) to file either the Initial Operation Requirement Notifications (IORN) or the Final Operation Requirement Notifications (FORN), as required by 47 CFR 1.60004, 1.60006, on behalf of the Lessee.

The Commission now seeks approval for revisions to its currently approved collection of information under OMB Control Number 3060-1058 to permit the collection of the changes requested herein. We anticipate that these revisions will have minimal impact on the hourly burden to complete FCC Form 608. The Commission therefore seeks approval for a revision to its currently approved information collection on FCC Form 608 to revise FCC Form 608 accordingly.

Federal Communications Commission.
Marlene Dortch,
Secretary, Office of the Secretary.

[FR Doc. 2023-24783 Filed 11-8-23; 8:45 am]

BILLING CODE 6712-01-P